DEPARTMENT OF LABOR

Employment and Training Administration

[TA-W-57,620]

International Manufacturing, El Paso, TX; Notice of Termination of Investigation

Pursuant to Section 221 of the Trade Act of 1974, as amended, an investigation was initiated on July 26, 2005 in response to a petition filed on behalf of workers at International Manufacturing, El Paso, Texas.

The petitioning group of workers is covered by an earlier petition (TA-W-57,599) filed on July 20, 2005 that is the subject of an ongoing investigation for which a determination has not yet been issued. Further investigation in this case would duplicate efforts and serve no purpose; therefore the investigation under this petition has been terminated.

Signed at Washington, DC, this 2nd day of August, 2005.
Richard Church,
Certifying Officer, Division of Trade Adjustment Assistance.

[FR Doc. E5-4681 Filed 8-25-05; 8:45 am]

BILLING CODE 4510-30-P